DEPARTMENT OF AGRICULTURE

Forest Service

Roadless Area Conservation National Advisory Committee

AGENCY: Forest Service, USDA.

ACTION: Notice of meeting.

SUMMARY: The Roadless Area Conservation National Advisory Committee will meet in Salt Lake City, Utah. The purpose of the meeting is to discuss the proposed rule for the management of roadless areas on National Forest System lands in the State of Idaho and to discuss other related roadless area matters.

DATES: The meeting will be held April 25th from 9 a.m. to 5 p.m.

ADDRESSES: The meeting will be held at the Utah Department of Natural Resources, Room 200, 1594 W. North Temple St., Salt Lake City, Utah. Written comments concerning this meeting should be addressed to Forest Service, U.S. Department of Agriculture, EMC, Jessica Call, 201 14th Street, SW., Mailstop 1104, Washington, DC 20024. Comments may also be sent via e-mail to jessicacall@fs.fed.us, or via facsimile to 202-205-1012. All comments, including names and addresses when provided, are placed in the record and are available for public inspection and copying. The public may inspect comments received at the Forest Service, Sidney R.Yates Building, 201 14th Street, SW., Washington, DC. Visitors are encouraged to call ahead to 202-205-1056 to facilitate entry into the building.

FOR FURTHER INFORMATION CONTACT: Jessica Call, Roadless Area Conservation National Advisory Committee (RACNAC) Coordinator, at jessicacall@fs.fed.us or 202-205-1056.

Individuals who use telecommunication devices for the deaf (TDD) may call the Federal Information Relay Service (FIRS) at 1-800-877-8339 between 8 a.m. and 8 p.m., Eastern Standard Time, Monday through Friday.

SUPPLEMENTARY INFORMATION: The meeting is open to the public and interested parties are invited to attend; building security requires you to provide your name to Jessica Call, RACNAC Coordinator by April 21, 2008. You will need photo identification to enter the building.

The meeting discussion will be limited to Forest Service staff and Committee members. Due to the time constraints of the meeting, there will be no time allotted for public oral comment. Only written public comments will be accepted for the Committee's consideration. Written comments may be brought to the meeting or sent in advance to the Forest Service, U.S. Department of Agriculture, EMC, Jessica Call, 201 14th Street, SW., Mailstop 1104, Washington, DC 20024. Comments may also be sent via e-mail to jessicacall@fs.fed.us, or via facsimile to 202-205-1012.

Dated: April 4, 2008.
Charles L. Myers,
Associate Deputy Chief, NFS.

[FR Doc. E8-7509 Filed 4-10-08; 8:45 am]

BILLING CODE 3410-11-P